ENVIRONMENTAL PROTECTION AGENCY

40 CFR Part 52

[EPA-R02-OAR-2017-0044; FRL-9961-00-Region 2]

Approval of Air Quality Implementation Plans; New Jersey, 2011 Periodic Emission Inventory SIP for the Ozone Nonattainment and PM2.5/Regional Haze Areas

AGENCY: Environmental Protection Agency.

ACTION: Proposed rule.

SUMMARY: The Environmental Protection Agency (EPA) is proposing to approve a State Implementation Plan (SIP) revision submitted by the New Jersey Department of Environmental Protection. The SIP revision consists of the following: 2011 calendar year ozone precursor emission inventories for volatile organic compounds, oxides of nitrogen and carbon monoxide for the Northern New Jersey-New York-Connecticut area classified as Moderate ozone nonattainment for the 2008 8-hour ozone standard, and Southern New Jersey-Philadelphia ozone nonattainment area classified as Marginal ozone nonattainment for the 2008 8-hour ozone standard. In addition, the SIP revision also consists of the 2011 calendar year statewide periodic emissions inventory for particulate matter with an aerodynamic diameter less than or equal to 2.5 microns (PM2.5) and the associated PM2.5 and/or Regional Haze precursors. The pollutants included in this inventory include volatile organic compounds, oxides of nitrogen, PM2.5, particulate matter with an aerodynamic diameter less than or equal to 10 microns, ammonia and sulfur dioxide. Emission inventories are needed to develop and assess new control strategies that the states may use in attainment demonstration SIPs for the new National Ambient Air Quality Standards for ozone and PM2.5. The inventory may also serve as part of statewide inventories for purposes of regional modeling in ozone and Regional Haze transport areas. The inventory plays an important role in modeling demonstrations for areas classified as nonattainment for ozone, carbon monoxide and PM2.5.

DATES: Comments must be received on or before May 10, 2017.

ADDRESSES: Submit your comments, identified by Docket ID Number EPA-R02-OAR-2017-0044, at http://www.regulations.gov. Follow the on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Raymond Forde forde.raymond@epa.gov for general, point and nonpoint or area source inventory questions, and Matthew Laurita laurita.matthew@epa.gov for mobile source inventory related questions at the U.S. Environmental Protection Agency, Air Programs Branch, 290 Broadway, 25th Floor, New York, NY 10007-1866, telephone number (212) 637-4249, fax number (212) 637-3901.

SUPPLEMENTARY INFORMATION: Throughout this document whenever “we,” “us,” or “our” is used, we mean the EPA.

Table of Contents

I. Background—What is the Periodic Emissions Inventory?

II. What are the criteria for approving the Periodic Inventory?

III. What action is the EPA proposing to take?

IV. Statutory and Executive Order Reviews

I. Background—What is the Periodic Emissions Inventory?

Section 182(a)(3) and 172(c)(3) of the Clean Air Act requires the periodic submission of emissions inventories for the SIP planning process to address the pollutants for the ozone, particulate matter with an aerodynamic diameter less than or equal to 2.5 microns (PM2.5) and carbon monoxide (CO) National Ambient Air Quality Standards. Identifying the calendar year gives certainty to states that require submission of the ozone, PM2.5 and CO emission inventories periodically. These requirements allow the EPA, based on the states' progress in reducing emissions, to periodically reassess its policies and air quality standards and revise them as necessary. Most important, the ozone, PM2.5 and CO inventories will be used to develop and assess new control strategies that the states may use in attainment demonstration SIPs for the new National Ambient Air Quality Standards for ozone and PM2.5. The inventory may also serve as part of statewide inventories for purposes of regional modeling in transport areas. The inventory plays an important role in modeling demonstrations for areas classified as nonattainment and outside transport regions. In addition, 40 CFR 51.308(d)(4)(v) of EPA's Regional Haze Rule (RHR) requires the establishment of a statewide emissions inventory of pollutants that are reasonably anticipated to cause or contribute to visibility impairment in any mandatory Class I area.

New Jersey has areas that are classified as nonattainment for the 2008 8-hour ozone standard. See 77 FR 30088 (May 21, 2012) for the Southern New Jersey-Philadelphia area classified as Marginal ozone nonattainment, and 81 FR 26697 (May 4, 2016) for the Northern New Jersey-New York-Connecticut area classified as Moderate ozone nonattainment. Therefore, an ozone emissions inventory is needed for these areas for air quality program planning purposes. For Regional Haze, New Jersey has a Class I area within its borders: Brigantine Wilderness Area (Brigantine). Emissions from New Jersey's sources were also found to impact visibility at several other Class I areas: Acadia National Park and the Moosehorn Wilderness Area in Maine, the Great Gulf Wilderness Area and Presidential Range/Dry River Wilderness Area in New Hampshire, and the Lye Brook Wilderness Area in Vermont. See 76 FR 49711 (August 11, 2011). Therefore, an emissions inventory is needed for the Regional Haze air quality planning program effort.

The pollutants inventoried by New Jersey include volatile organic compounds (VOC), oxides of nitrogen (NOX) and CO summertime daily and annual emissions for the ozone areas; and VOC, NOX, PM2.5, particulate matter with an aerodynamic diameter less than or equal to 10 microns (PM10), ammonia (NH3) and sulfur dioxide (SO2) annual emissions for the PM2.5 and/or Regional Haze areas. For the reasons stated above, ideally EPA would therefore emphasize the importance and benefits of developing a comprehensive, current, and accurate ozone and PM2.5/Regional Haze emissions inventory (similar to the 1990 base year inventory effort). In this case, the 2011 calendar year has been selected as the inventory that will be used for planning purposes for ozone and PM2.5/Regional Haze areas.

II. What are the criteria for approving the Periodic Inventory?

On June 11, 2015, New Jersey submitted the 2011 ozone emissions inventory for the Northern New Jersey-New York-Connecticut and Southern New Jersey-Philadelphia ozone nonattainment areas and the 2011 emissions inventory for the PM2.5/Regional Haze areas and requested that EPA approve the emissions inventory SIP revision. This section describes EPA's rationale for proposing to approve the emissions inventory SIP revision. A more detailed discussion of the EPA's review and proposed action is found in the technical support document (TSD) available in the Docket for this action, and by contacting the individuals in the For Further Information Contact section.

There are specific components of an acceptable emission inventory. The emission inventory must meet certain minimum requirements for reporting each source category. Specifically, the source requirements are detailed below.

The review process, which is described in the accompanying TSD, is used to determine that all components of the base year inventory are present. This review also evaluates the level of supporting documentation provided by the state, assesses whether the emissions were developed according to current EPA guidance, and evaluates the quality of the data.

The review process is outlined here and consists of eight elements that the inventory must include. For an emissions inventory to be acceptable, it must pass all of the following acceptance criteria:

1. Evidence that the inventory was quality assured by the state and its implementation documented;

2. The point source inventory was complete;

3. Point source emissions were prepared or calculated according to the current EPA guidance;

4. The area source inventory was complete;

5. The area source emissions were prepared or calculated according to the current EPA guidance;

6. Non-road mobile emissions were prepared according to the current EPA guidance for all of the source categories;

7. The method (e.g., Highway Performance Monitoring System or a network transportation planning model) used to develop vehicle miles travelled (VMT) estimates follows the EPA guidance; and,

8. On-road mobile emissions were prepared according to the current EPA guidance.

Based on the EPA's review, New Jersey satisfies all of the EPA's requirements for purposes of providing a comprehensive, accurate, and current inventory of actual emissions for the ozone nonattainment and PM2.5/Regional Haze areas. A summary of the EPA's review is given below:

1. The Quality Assurance (QA) plan was implemented for all portions of the inventory. The QA plan included a QA/Quality control (QC) program for assessing data completeness and standard range checking. Critical data elements relative to the inventory sources were assessed for completeness. QA checks were performed relative to data collection and analysis, and double counting of emissions from point, area and mobile sources. QA/QC checks were conducted to ensure accuracy of units, unit conversions, transposition of figures, and calculations. The inventory is well documented. New Jersey provided documentation detailing the methods used to develop emissions estimates for each category. In addition, New Jersey identified the sources of data used in developing the inventory;

2. The point source emissions are complete and in accordance with the EPA guidance;

3. The point source emissions were prepared/calculated in accordance with the EPA guidance;

4. The area source emissions are complete and in accordance with the EPA guidance;

5. Area source emissions were prepared/calculated in accordance with the EPA guidance;

6. Emission estimates for the non-road mobile source categories are correctly based on the latest non-road mobile model or other appropriate guidance and prepared in accordance with the EPA guidance;

7. The method used to develop VMT estimates is in accordance with the EPA guidance and was adequately described and documented in the inventory report; and,

8. The latest Motor Vehicle Emission Simulator (MOVES) model was used in accordance with the EPA's guidance.

New Jersey's 2011 ozone and PM2.5/Regional Haze emission inventories have been developed in accordance with EPA guidance. Therefore, EPA is proposing to approve the emission inventories. A more detailed discussion of how the emission inventory was reviewed and the results of the review are presented in the TSD. Detailed emission inventory development procedures can be found in the following document: Emission Inventory Guidance for Implementation of Ozone and Particulate Matter NAAQS and Regional Haze Regulation, dated August 2005; Using MOVES to Prepare Emission Inventories in State Implementation Plans and Transportation Conformity: Technical Guidance for MOVES2010, 2010a and 2010b, April 2012.

Tables A-H below show the 2011 VOC, NOX and CO summertime daily and annual emission inventories for the ozone nonattainment areas. Tables F, G and I-L, show the VOC, NOX, PM2.5, PM10, SO2, and NH3 annual emissions for the PM2.5/Regional Haze areas.

Table A—New Jersey Portion of the Northern New Jersey Ozone Nonattainment Area
County | VOC tons per summer day: Point sources | VOC tons per summer day: Area sources | VOC tons per summer day: Onroad sources | VOC tons per summer day: Nonroad sources | VOC tons per summer day: Total anthropogenic
Bergen | 1.46 | 25.45 | 11.17 | 14.41 | 52.49
Essex | 2.65 | 21.95 | 6.48 | 6.43 | 37.51
Hudson | 3.11 | 15.87 | 3.82 | 3.96 | 26.76
Hunterdon | 0.16 | 4.37 | 2.04 | 3.09 | 9.66
Middlesex | 16.86 | 25.45 | 9.03 | 9.19 | 60.53
Monmouth | 0.43 | 19.33 | 7.79 | 9.6 | 37.15
Morris | 0.58 | 15.94 | 6.22 | 9.08 | 31.82
Passaic | 0.9 | 14.55 | 4.71 | 5.07 | 25.23
Somerset | 0.96 | 10.52 | 3.87 | 6.21 | 21.56
Sussex | 0.14 | 4.52 | 1.93 | 4.07 | 10.66
Union | 3.7 | 17.15 | 5.99 | 5.96 | 32.8
Warren | 0.41 | 4.04 | 1.6 | 2.32 | 8.37
Total in Northern NAA Area | 31.36 | 179.14 | 64.65 | 79.39 | 354.54

Table B—New Jersey Portion of the Northern New Jersey Ozone Nonattainment Area
County | NOX tons per summer day: Point sources | NOX tons per summer day: Area sources | NOX tons per summer day: Onroad sources | NOX tons per summer day: Nonroad sources | NOX tons per summer day: Total anthropogenic
Bergen | 3.64 | 3.48 | 27.43 | 14.54 | 49.09
Essex | 12.07 | 2.81 | 15.74 | 15.28 | 45.9
Hudson | 16.98 | 2.07 | 8.4 | 14.29 | 41.74
Hunterdon | 6.23 | 0.49 | 7 | 3.52 | 17.24
Middlesex | 19.08 | 3.03 | 23.95 | 12.65 | 58.71
Monmouth | 0.58 | 2.15 | 14.64 | 11.54 | 28.91
Morris | 0.98 | 2.2 | 15.86 | 7.27 | 26.31
Passaic | 0.27 | 1.62 | 9.55 | 4.89 | 16.33
Somerset | 1.45 | 1.36 | 10.8 | 5.85 | 19.46
Sussex | 0.15 | 0.54 | 3.12 | 2.19 | 6
Union | 9.01 | 1.91 | 16.01 | 11.77 | 38.7
Warren | 1.78 | 0.41 | 6.09 | 1.56 | 9.84
Total in Northern NAA Area | 72.22 | 22.07 | 158.59 | 105.35 | 358.23

Table C—New Jersey Portion of the Northern New Jersey Ozone Nonattainment Area
County | VOC tons per summer day: Point sources | VOC tons per summer day: Area sources | VOC tons per summer day: Onroad sources | VOC tons per summer day: Nonroad sources | VOC tons per summer day: Total anthropogenic
Atlantic | 0.16 | 9.12 | 3.73 | 8.04 | 21.05
Burlington | 0.92 | 14.32 | 6.52 | 7.48 | 29.24
Camden | 0.74 | 14.27 | 6.53 | 5.12 | 26.66
Cape May | 0.26 | 3.71 | 1.5 | 10.4 | 15.87
Cumberland | 0.33 | 7.29 | 1.68 | 2.9 | 12.2
Gloucester | 4.29 | 16.12 | 3.86 | 4.54 | 28.81
Mercer | 0.54 | 11.32 | 5.06 | 4.54 | 21.46
Ocean | 0.31 | 15.9 | 6.46 | 14.29 | 36.96
Salem | 0.78 | 3.09 | 1.13 | 1.84 | 6.84
Total in Southern NAA Area | 8.33 | 95.14 | 36.47 | 59.15 | 199.09

Table D—New Jersey Portion of the Northern New Jersey Ozone Nonattainment Area
County | NOX tons per summer day: Point sources | NOX tons per summer day: Area sources | NOX tons per summer day: Onroad sources | NOX tons per summer day: Nonroad sources | NOX tons per summer day: Total anthropogenic
Atlantic | 0.95 | 1.05 | 14.2 | 5.91 | 22.11
Burlington | 8.92 | 1.79 | 17.78 | 8.79 | 37.28
Camden | 1.53 | 1.79 | 16.89 | 6.84 | 27.05
Cape May | 13.77 | 0.37 | 5.66 | 5.88 | 25.68
Cumberland | 4.57 | 0.57 | 5.07 | 4.4 | 14.61
Gloucester | 6.83 | 0.93 | 10.57 | 7.21 | 25.54
Mercer | 6.49 | 1.64 | 14.2 | 5.62 | 27.95
Ocean | 3.15 | 1.59 | 11.41 | 8.62 | 24.77
Salem | 10.36 | 0.25 | 5.89 | 1.61 | 18.11
Total in Southern NAA Area | 56.57 | 9.98 | 101.67 | 54.88 | 223.1

Table E—2011 New Jersey Statewide Emissions Inventory by County and Source Sector
County | CO tons per year: Point sources | CO tons per year: Area sources | CO tons per year: Onroad sources | CO tons per year: Nonroad sources | CO tons per year: Total anthropogenic
Atlantic | 0.92 | 1.91 | 47.16 | 47.81 | 97.80
Bergen | 1.49 | 3.47 | 128.03 | 198.37 | 331.36
Burlington | 2.67 | 6.88 | 68.9 | 79.73 | 158.18
Camden | 0.47 | 3.17 | 64.63 | 62.04 | 130.31
Cape May | 1.14 | 0.66 | 18.15 | 45.18 | 65.13
Cumberland | 2.25 | 1.42 | 15.97 | 20.16 | 39.80
Essex | 12.05 | 2.96 | 70.99 | 84.87 | 170.87
Gloucester | 2.14 | 1.34 | 41.11 | 51.26 | 95.85
Hudson | 6.64 | 2.21 | 38.46 | 41.16 | 88.47
Hunterdon | 2.18 | 1 | 22.08 | 37.27 | 62.53
Mercer | 1.22 | 2.2 | 52.97 | 58.14 | 114.53
Middlesex | 22.29 | 3.59 | 108.77 | 132.73 | 267.38
Monmouth | 0.8 | 2.45 | 83.9 | 114.31 | 201.46
Morris | 0.42 | 2.28 | 72.86 | 121.29 | 196.85
Ocean | 2.48 | 3.95 | 63.68 | 88.62 | 158.73
Passaic | 0.17 | 1.74 | 52.36 | 62.2 | 116.47
Salem | 3.08 | 0.6 | 15.16 | 11.73 | 30.57
Somerset | 0.79 | 1.46 | 42.25 | 90.37 | 134.87
Sussex | 0.4 | 0.85 | 17.85 | 28.7 | 47.80
Union | 2.85 | 2.05 | 67.43 | 81.39 | 153.72
Warren | 0.74 | 1.04 | 16.55 | 19.42 | 37.75
Total in State | 67.20 | 47.23 | 1,109.26 | 1476.75 | 2,700.44

Table F—2011 New Jersey Statewide Emissions Inventory by County and Source Sector
County | VOC tons per year: Point sources | VOC tons per year: Area sources | VOC tons per year: Onroad sources | VOC tons per year: Nonroad sources | VOC tons per year: Total anthropogenic
Atlantic | 58 | 3,437 | 1,278 | 2,472 | 7,245
Bergen | 321 | 8,408 | 4,512 | 4,209 | 17,450
Burlington | 226 | 4,995 | 2,382 | 2,174 | 9,777
Camden | 218 | 5,134 | 2,349 | 1,484 | 9,185
Cape May | 16 | 1,397 | 505 | 3,142 | 5,060
Cumberland | 64 | 2,627 | 621 | 928 | 4,240
Essex | 483 | 7,341 | 2,686 | 1,982 | 12,492
Gloucester | 1,008 | 5,261 | 1,424 | 1,308 | 9,001
Hudson | 722 | 5,504 | 1,585 | 1,244 | 9,055
Hunterdon | 31 | 1,463 | 854 | 876 | 3,224
Mercer | 126 | 4,343 | 1,877 | 1,286 | 7,632
Middlesex | 1,891 | 8,539 | 3,711 | 2,617 | 16,758
Monmouth | 117 | 6,442 | 3,241 | 2,790 | 12,590
Morris | 133 | 5,257 | 2,561 | 2,570 | 10,521
Ocean | 68 | 5,576 | 2,708 | 4,507 | 12,859
Passaic | 113 | 4,708 | 1,952 | 1,488 | 8,261
Salem | 197 | 1,036 | 414 | 565 | 2,212
Somerset | 236 | 3,533 | 1,589 | 1,701 | 7,059
Sussex | 48 | 1,517 | 835 | 1,197 | 3,597
Union | 1,143 | 5,666 | 2,450 | 1,723 | 10,982
Warren | 102 | 1,541 | 672 | 673 | 2,988
Total in State | 7,320 | 93,726 | 40,206 | 40,938 | 182,190

Table G—2011 New Jersey Statewide Emissions Inventory by County and Source Sector
County | NOX tons per year: Point sources | NOX tons per year: Area sources | NOX tons per year: Onroad sources | NOX tons per year: Nonroad sources | NOX tons per year: Total anthropogenic
Atlantic | 110 | 807 | 3,926 | 1,909 | 6,752
Bergen | 714 | 2,570 | 9,852 | 4,539 | 17,675
Burlington | 266 | 1,309 | 5,952 | 2,765 | 10,292
Camden | 433 | 1,408 | 5,463 | 2,216 | 9,520
Cape May | 600 | 288 | 1,500 | 1,988 | 4,376
Cumberland | 721 | 437 | 1,418 | 1,460 | 4,036
Essex | 1,470 | 2,107 | 5,934 | 5,138 | 14,649
Gloucester | 1,765 | 732 | 3,618 | 2,364 | 8,479
Hudson | 1,087 | 1,605 | 3,152 | 4,731 | 10,575
Hunterdon | 181 | 366 | 2,663 | 1,026 | 4,236
Mercer | 634 | 1,194 | 4,661 | 1,593 | 8,082
Middlesex | 1,647 | 2,217 | 9,045 | 3,826 | 16,735
Monmouth | 151 | 1,665 | 5,570 | 3,586 | 10,972
Morris | 122 | 1,556 | 6,046 | 2,160 | 9,884
Ocean | 252 | 1,413 | 4,430 | 2,778 | 8,873
Passaic | 48 | 1,210 | 3,566 | 1,500 | 6,324
Salem | 1,540 | 182 | 1,952 | 476 | 4,150
Somerset | 168 | 969 | 4,102 | 1,721 | 6,960
Sussex | 39 | 395 | 1,203 | 634 | 2,271
Union | 2,532 | 1,405 | 5,984 | 3,979 | 13,900
Warren | 314 | 322 | 2,317 | 443 | 3,396
Total in State | 14,793 | 24,157 | 92,356 | 50,834 | 182,140

Table H—2011 New Jersey Statewide Emissions Inventory by County and Source Sector
County | CO tons per year: Point sources | CO tons per year: Area sources | CO tons per year: Onroad sources | CO tons per year: Nonroad sources | CO tons per year: Total anthropogenic
Atlantic | 179 | 4,493 | 13,740 | 13,553 | 31,965
Bergen | 278 | 4,861 | 53,500 | 53,631 | 112,270
Burlington | 356 | 6,734 | 27,653 | 21,635 | 56,378
Camden | 140 | 6,243 | 23,922 | 16,981 | 47,286
Cape May | 61 | 1,607 | 6,039 | 13,250 | 20,957
Cumberland | 234 | 3,198 | 6,729 | 5,989 | 16,150
Essex | 630 | 4,616 | 32,647 | 25,006 | 62,899
Gloucester | 510 | 2,436 | 16,487 | 13,377 | 32,810
Hudson | 334 | 4,083 | 18,606 | 12,513 | 35,536
Hunterdon | 50 | 1,209 | 9,367 | 9,523 | 20,149
Mercer | 183 | 5,374 | 21,211 | 15,090 | 41,858
Middlesex | 1,753 | 4,707 | 45,777 | 35,120 | 87,357
Monmouth | 239 | 4,351 | 36,065 | 30,219 | 70,874
Morris | 84 | 3,194 | 31,289 | 31,670 | 66,237
Ocean | 534 | 7,500 | 26,667 | 26,043 | 60,744
Passaic | 32 | 2,343 | 21,629 | 17,169 | 41,173
Salem | 554 | 774 | 4,001 | 3,378 | 8,707
Somerset | 104 | 1,976 | 17,650 | 22,599 | 42,329
Sussex | 74 | 1,216 | 7,745 | 8,038 | 17,073
Union | 576 | 3,318 | 27,597 | 21,827 | 53,318
Warren | 150 | 2,110 | 7,362 | 5,369 | 14,991
Total in State | 7,055 | 76,341 | 455,683 | 401,977 | 941,056

Table I—2011 New Jersey Statewide Emissions Inventory by County and Source Sector
County | PM2.5 tons per year: Point sources | PM2.5 tons per year: Area sources | PM2.5 tons per year: Onroad sources | PM2.5 tons per year: Nonroad sources | PM2.5 tons per year: Total anthropogenic
Atlantic | 13 | 694 | 144 | 133 | 984
Bergen | 143 | 992 | 416 | 362 | 1,913
Burlington | 39 | 1,166 | 230 | 176 | 1,611
Camden | 41 | 976 | 211 | 144 | 1,372
Cape May | 139 | 307 | 52 | 154 | 652
Cumberland | 200 | 542 | 52 | 82 | 876
Essex | 185 | 898 | 231 | 227 | 1,541
Gloucester | 330 | 542 | 138 | 142 | 1,152
Hudson | 100 | 765 | 127 | 239 | 1,231
Hunterdon | 16 | 319 | 98 | 87 | 520
Mercer | 102 | 856 | 189 | 152 | 1,299
Middlesex | 411 | 1,010 | 356 | 305 | 2,082
Monmouth | 37 | 972 | 194 | 271 | 1,474
Morris | 18 | 641 | 221 | 209 | 1,089
Ocean | 45 | 1,230 | 155 | 214 | 1,644
Passaic | 2 | 499 | 143 | 124 | 768
Salem | 219 | 199 | 80 | 36 | 534
Somerset | 18 | 428 | 152 | 160 | 758
Sussex | 13 | 300 | 44 | 70 | 427
Union | 600 | 688 | 240 | 236 | 1,764
Warren | 39 | 398 | 83 | 45 | 565
Total in State | 2,710 | 14,420 | 3,557 | 3,567 | 24,254

Table J—2011 New Jersey Statewide Emissions Inventory by County and Source Sector
County | PM10 tons per year: Point sources | PM10 tons per year: Area sources | PM10 tons per year: Onroad sources | PM10 tons per year: Nonroad sources | PM10 tons per year: Total anthropogenic
Atlantic | 22 | 929 | 189 | 140 | 1,280
Bergen | 152 | 1,328 | 647 | 381 | 2,508
Burlington | 78 | 1,573 | 352 | 185 | 2,188
Camden | 571 | 1,111 | 325 | 152 | 2,159
Cape May | 156 | 586 | 69 | 164 | 975
Cumberland | 226 | 1,055 | 70 | 86 | 1,437
Essex | 191 | 1,158 | 339 | 236 | 1,924
Gloucester | 332 | 1,109 | 210 | 149 | 1,801
Hudson | 103 | 965 | 189 | 250 | 1,507
Hunterdon | 16 | 829 | 137 | 92 | 1,074
Mercer | 113 | 1,091 | 291 | 159 | 1,654
Middlesex | 486 | 1,585 | 522 | 321 | 2,913
Monmouth | 42 | 1,763 | 321 | 286 | 2,412
Morris | 47 | 935 | 330 | 221 | 1,533
Ocean | 50 | 2,023 | 260 | 226 | 2,559
Passaic | 3 | 633 | 219 | 130 | 985
Salem | 241 | 436 | 98 | 39 | 814
Somerset | 40 | 705 | 226 | 170 | 1,140
Sussex | 23 | 599 | 75 | 75 | 772
Union | 667 | 926 | 349 | 248 | 2,191
Warren | 53 | 733 | 111 | 47 | 944
Total in State | 3,611 | 22,072 | 5,328 | 3,757 | 34,768

Table K—2011 New Jersey Statewide Emissions Inventory by County and Source Sector
County | SO2 tons per year: Point sources | SO2 tons per year: Area sources | SO2 tons per year: Onroad sources | SO2 tons per year: Nonroad sources | SO2 tons per year: Total anthropogenic
Atlantic | 107 | 276 | 29 | 61 | 473
Bergen | 67 | 503 | 103 | 50 | 723
Burlington | 87 | 318 | 55 | 143 | 603
Camden | 48 | 299 | 50 | 219 | 616
Cape May | 1,295 | 89 | 10 | 40 | 1,434
Cumberland | 348 | 287 | 9 | 31 | 675
Essex | 248 | 498 | 57 | 386 | 1,189
Gloucester | 742 | 206 | 33 | 391 | 1,372
Hudson | 1,083 | 300 | 28 | 435 | 1,846
Hunterdon | 3 | 304 | 21 | 6 | 334
Mercer | 624 | 280 | 43 | 10 | 957
Middlesex | 235 | 406 | 88 | 73 | 802
Monmouth | 31 | 334 | 71 | 264 | 700
Morris | 4 | 579 | 62 | 77 | 722
Ocean | 26 | 374 | 53 | 42 | 495
Passaic | 13 | 257 | 37 | 5 | 312
Salem | 1,256 | 106 | 10 | 8 | 1,380
Somerset | 12 | 189 | 38 | 9 | 248
Sussex | 11 | 474 | 14 | 3 | 502
Union | 123 | 332 | 54 | 577 | 1,086
Warren | 52 | 259 | 16 | 3 | 330
Total in State | 6,415 | 6,669 | 879 | 2,836 | 16,799

Table L—2011 New Jersey Statewide Emissions Inventory by County and Source Sector
County | NH3 tons per year: Point sources | NH3 tons per year: Area sources | NH3 tons per year: Onroad sources | NH3 tons per year: Nonroad sources | NH3 tons per year: Total anthropogenic
Atlantic | 14 | 194 | 90 | 1.70 | 299.70
Bergen | 372 | 380 | 282 | 4.81 | 1,038.81
Burlington | 39 | 471 | 141 | 2.15 | 653.15
Camden | 20 | 246 | 127 | 1.66 | 394.66
Cape May | 3 | 75 | 31 | 1.80 | 110.80
Cumberland | 30 | 404 | 26 | 0.88 | 460.88
Essex | 41 | 322 | 170 | 2.43 | 535.43
Gloucester | 16 | 324 | 86 | 1.30 | 427.30
Hudson | 26 | 230 | 80 | 2.10 | 338.10
Hunterdon | 2 | 417 | 61 | 1.02 | 481.02
Mercer | 10 | 216 | 108 | 1.92 | 335.92
Middlesex | 162 | 370 | 262 | 3.90 | 797.90
Monmouth | 47 | 616 | 213 | 3.45 | 879.45
Morris | 3 | 230 | 185 | 2.78 | 420.78
Ocean | 41 | 209 | 155 | 3.29 | 408.29
Passaic | 1 | 182 | 105 | 1.75 | 289.75
Salem | 59 | 644 | 29 | 0.41 | 732.41
Somerset | 2 | 228 | 111 | 1.99 | 342.99
Sussex | 0 | 321 | 38 | 0.89 | 359.89
Union | 127 | 226 | 161 | 1.89 | 515.89
Warren | 6 | 694 | 46 | 0.53 | 746.53
Total in State | 1,021 | 6,997 | 2,506 | 42.66 | 10,569.65

III. What action is the EPA proposing to take?

The New Jersey emission inventory SIP revision will ensure that the requirements for emission inventory measures and reporting are adequately met. To comply with the emission inventory requirements, New Jersey submitted a complete inventory containing point, area, on-road, and non-road mobile source data, and accompanying documentation. EPA is proposing to approve the SIP revision submittal as meeting the essential reporting requirements for emissions inventories. EPA has also determined that the SIP revision meets the requirements for emission inventories in accordance with EPA guidance.

Therefore, EPA is proposing to approve a revision to the New Jersey SIP which pertains to the following: 2011 calendar year summer season daily and annual ozone precursor emissions emission inventories for VOC, NOX and CO for the Northern New Jersey-New York-Connecticut and the Southern New Jersey-Philadelphia ozone nonattainment areas. In addition, the EPA is proposing to approve the 2011 calendar year PM2.5/Regional Haze emissions inventory that was developed statewide for New Jersey. The pollutants included in the inventory are annual emissions for VOC, NOX, PM2.5, PM10, NH3 and SO2. Interested parties may participate in the Federal rulemaking procedure by submitting written comments to the EPA Region 2 Office by the method discussed in the ADDRESSES section of this action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law. Thus, Executive Order 13175 does not apply to this action.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Authority: 42 U.S.C. 7401 et seq.

Dated: March 16, 2017.
Catherine R. McCabe,
Acting Regional Administrator, Region 2.

[FR Doc. 2017-07137 Filed 4-7-17; 8:45 am]

BILLING CODE 6560-50-P